DEPARTMENT OF COMMERCE

International Trade Administration

[A-533-823, A-834-807, A-307-820]

Silicomanganese From India, Kazakhstan, and Venezuela: Final Results of the Expedited Fourth Sunset Reviews of the Antidumping Duty Orders

AGENCY: Enforcement and Compliance, International Trade Administration, Department of Commerce.

SUMMARY: As a result of these expedited sunset reviews, the U.S. Department of Commerce (Commerce) finds that revocation of the antidumping (AD) duty orders on silicomanganese from India, Kazakhstan, and Venezuela would be likely to lead to continuation or recurrence of dumping at the levels indicated in the “Final Results of Sunset Reviews” section of this notice.

DATES: Applicable August 19, 2024.

FOR FURTHER INFORMATION CONTACT: Jacob Waddell, AD/CVD Operations, Office VI, Enforcement and Compliance, International Trade Administration, U.S. Department of Commerce, 1401 Constitution Avenue NW, Washington, DC 20230; telephone: (202) 482-1369.

SUPPLEMENTARY INFORMATION:

Background

On May 1, 2024, Commerce published the notice of initiation of the fourth sunset reviews of the Orders,¹ pursuant to section 751(c) of the Tariff Act of 1930, as amended (the Act).² On May 15, 2024, Commerce received notices of intent to participate in the sunset reviews from Eramet Marietta, Inc. (Eramet), the domestic interested party, within the deadline specified in 19 CFR 351.218(d)(1)(i).³ Eramet stated that it is an interested party under section 771(9)(C) of the Act as a U.S. manufacturer, producer, or wholesaler of the domestic like product.⁴

¹ See Notice of Amended Final Determination of Sales at Less than Fair Value and Antidumping Duty Orders: Silicomanganese from India, Kazakhstan, and Venezuela, 67 FR 36149 (May 23, 2002) (Orders).

² See Initiation of Five-Year (Sunset) Reviews, 89 FR 35073 (May 1, 2024).

³ See Domestic Interested Party's Letters, “Notice of Intent To Participate,” dated January 9, 2024.

⁴ Id.

On May 30, 2024, the domestic interested party filed adequate substantive responses within the deadline specified in 19 CFR 351.218(d)(3)(i).⁵ Commerce did not receive a substantive response from any respondent interested party. As a result, pursuant to section 751(c)(3)(B) of the Act and 19 CFR 351.218(e)(1)(ii)(C)(2), Commerce conducted expedited (120-day) sunset reviews of the Orders. On July 22, 2024, Commerce tolled certain deadlines in these administrative proceedings by seven days.⁶ The deadline for the final results of the sunset reviews is now September 5, 2024.

⁵ See Domestic Interested Party's Letters, “Substantive Response,” dated February 1, 2024.

⁶ See Memorandum, “Tolling of Deadlines for Antidumping and Countervailing Duty Proceedings,” dated July 22, 2024.

Scope of the Order

The merchandise covered by these Orders is silicomanganese from India, Kazakhstan, and Venezuela, respectively. For a complete description of the scope of the Orders, see the Issues and Decision Memorandum.⁷

⁷ See Memorandum, “Decision Memorandum for the Final Results of the Expedited Fourth Sunset Reviews of the Antidumping Duty Orders on Silicomanganese from India, Kazakhstan, and Venezuela,” dated concurrently with, and hereby adopted by, this notice (Issues and Decision Memorandum).

Analysis of Comments Received

A complete discussion of all issues raised in these sunset reviews, including the likelihood of continuation or recurrence of dumping in the event of revocation of the Orders and the magnitude of the margins of dumping likely to prevail if the Orders were to be revoked, is provided in the Issues and Decision Memorandum.⁸ A list of the topics discussed in the Issues and Decision Memorandum is attached as an appendix to this notice. The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://access.trade.gov/public/FRNoticesListLayout.aspx.

⁸ Id.

Final Results of Sunset Reviews

Pursuant to sections 751(c)(1) and 752(c)(1) and (3) of the Act, Commerce determines that revocation of the Orders on silicomanganese from India, Kazakhstan, and Venezuela would likely lead to the continuation or recurrence of dumping. We determine that the weighted-average dumping margins likely to prevail are up 20.53 percent for India, 247.88 percent for Kazakhstan, and 24.62 percent for Venezuela.

Administrative Protective Order

This notice serves as the only reminder to parties subject to administrative protective order (APO) of their responsibility concerning the disposition of proprietary information disclosed under APO in accordance with 19 CFR 351.305. Timely notification of the return or destruction of APO materials, or conversion to judicial protective order, is hereby requested. Failure to comply with the regulations and terms of an APO is a violation which is subject to sanction.

Notification to Interested Parties

We are issuing and publishing these expedited final results of sunset reviews and notice in accordance with sections 751(c), 752(c), and 777(i)(1) of the Act.

Dated: August 13, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2024-18494 Filed 8-16-24; 8:45 am]

BILLING CODE 3510-DS-P